DEPARTMENT OF HEALTH AND HUMAN SERVICES

Food and Drug Administration

[Docket No. FDA-2016-N-0001]

Psychopharmacologic Drugs Advisory Committee; Cancellation

AGENCY: Food and Drug Administration, HHS.

ACTION: Notice.

SUMMARY: The meeting of the Psychopharmacologic Drugs Advisory Committee scheduled for February 16, 2017, is cancelled. This meeting was announced in the Federal Register of December 27, 2016 (81 FR 95147). The meeting is no longer needed.

FOR FURTHER INFORMATION CONTACT: Kalyani Bhatt, Center for Drug Evaluation and Research, Food and Drug Administration, 10903 New Hampshire Ave., Bldg. 31, Rm. 2417, Silver Spring, MD 20993-0002, 301-796-9001, FAX: 301-847-8533, email: PDAC@fda.hhs.gov, or FDA Advisory Committee Information Line, 1-800-741-8138 (301-443-0572 in the Washington, DC area), and follow the prompts to the desired center or product area. Please call the Information Line for up-to-date information on this meeting.

Dated: January 11, 2017.
Janice M. Soreth,
Associate Commissioner for Special Medical Programs.

[FR Doc. 2017-01170 Filed 1-18-17; 8:45 am]

BILLING CODE 4164-01-P